NUCLEAR REGULATORY COMMISSION

[Docket No. 50-382]

Entergy Operations, Inc., Waterford Steam Electric Station, Unit 3; Environmental Assessment and Finding of No Significant Impact

The U.S. Nuclear Regulatory Commission (NRC or the Commission) is considering issuance of an exemption from Title 10 of the Code of Federal Regulations (10 CFR) Part 50, Appendix E, Section IV.F.2.c for Facility Operating License No. NPF-38, issued to Entergy Operations, Inc. (EOI or the licensee), for operation of the Waterford Steam Electric Station, Unit 3 (Waterford 3), located in St. Charles Parish, Louisiana. Therefore, as required by 10 CFR 51.21, the NRC is issuing this environmental assessment and finding of no significant impact.

Environmental Assessment

Identification of the Proposed Action

The proposed action, as described in the licensee's application for a one-time exemption to the requirements of 10 CFR part 50, appendix E, section IV.F.2.c, dated October 24, 2005, would allow the licensee to reschedule the planned offsite full-participation emergency exercise from December 7, 2005 to June 28, 2006. Subsequent exercises would be scheduled in accordance with the original biennial schedule from the year 2005.

The Need for the Proposed Action

The proposed exemption from 10 CFR Part 50, Appendix E, Section IV.F.2.c is needed because the licensee anticipates not being able to perform the planned full-participation exercise scheduled for December 7, 2005, due to Hurricanes Katrina and Rita and the ongoing restoration efforts at Waterford 3, at the surrounding parishes, and the State. In this particular circumstance, it would impose a hardship to perform the required emergency preparedness exercise with full participation on December 7, 2005.

Environmental Impacts of the Proposed Action

The NRC has completed its evaluation of the proposed action and concludes that the proposed exemption will not present an undue risk to public health and safety. The details of the staff's Safety Evaluation will be provided in the exemption that will be issued as part of the letter to the licensee approving the exemption to the regulation. The action relates to the exercising of the emergency response plan which has no effect on the operation of the facility.

The proposed action will not significantly increase the probability or consequences of accidents, no changes are being made in the types, or amounts of effluents that may be released off site, and there is no significant increase in occupational or public radiation exposure. Therefore, there are no significant radiological environmental impacts associated with the proposed action.

In regard to potential nonradiological impacts, the proposed action does not have a potential to affect any historic sites. It does not affect nonradiological plant effluents and has no other environmental impact. Therefore, there are no significant nonradiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resources than those previously considered in the Final Environmental Statement (FES) for the Waterford 3 dated September 1981 (NUREG-0779).

Agencies and Persons Consulted

On October 26, 2005, the staff consulted with the Louisiana State official, Nan Calhoun of the Louisiana Department of Environmental Quality, Radiological Emergency Planning & Response, regarding the environmental impact of the proposed action. The State official had no comments.

Finding of No Significant Impact

For further details with respect to the proposed action, see the following: (1) The FES, dated September 1981 (NUREG-0779), and (2) the Exemption application dated October 24, 2005, (Agencywide Documents Access and Management System (ADAMS) Accession No. ML052990303). Documents may be examined, and/or copied for a fee, at the NRC's Public Document Room (PDR), located at One White Flint North, 11555 Rockville Pike (first floor), Rockville, Maryland. Publicly available records will be accessible electronically from the ADAMS Public Electronic Reading Room on the internet at the NRC Web site, http://www.nrc.gov/reading-rm/adams.html. Persons who do not have access to ADAMS or who encounter problems in accessing the documents located in ADAMS should contact the NRC PDR Reference staff at 1-800-397-4209 or 301-415-4737, or send an e-mail to pdr@nrc.gov.

FOR FURTHER INFORMATION CONTACT: N. Kalyanam, Office of Nuclear Reactor Regulation, Mail Stop O-7D1, U.S. Nuclear Regulatory Commission, Washington, DC 20555-0001, by telephone at (301) 415-1480, or by e-mail at nxk@nrc.gov.

Dated at Rockville, Maryland, this 2nd day of December 2005.
For the Nuclear Regulatory Commission.
David Terao,
Chief, Plant Licensing Branch G, Division of Operating Reactor Licensing, Office of Nuclear Reactor Regulation.

[FR Doc. E5-7116 Filed 12-8-05; 8:45 am]

BILLING CODE 7590-01-P